DEPARTMENT OF ENERGY

Federal Energy Regulatory Commission

[Project No. 13852-000]

Hawthorn Water LLC; Notice of Preliminary Permit Application Accepted for Filing and Soliciting Comments, Motions To Intervene, and Competing Applications

On September 30, 2010, Hawthorn Water LLC filed an application, pursuant to section 4(f) of the Federal Power Act, proposing to study the feasibility of hydropower near the town of Clayton, on the Kiamichi River in Pushmataha County, Oklahoma. The sole purpose of a preliminary permit, if issued, is to grant the permit holder priority to file a license application during the permit term. A preliminary permit does not authorize the permit holder to perform any land-disturbing activities or otherwise enter upon lands or waters owned by others without the owners' express permission.

The proposed pumped storage project would consist of the following: (1) An 120-foot-high, 3,000-foot-long earth embankment dam creating; (2) an upper reservoir with a surface area of 120 acres and an 6,000 acre-foot storage capacity; (3) a 80-foot-high, 2,800-foot-long earth embankment dam creating; (4) a lower reservoir with a surface area of 110 acres and an 6,000 acre-foot storage capacity; (5) one 32-foot-diameter, 9,600-foot-long penstock connecting the two reservoirs; (6) a powerhouse/pumping station containing 3 pump/generating units with a total generating capacity of 750 megawatts; (7) a 5-foot-high, 200-foot-long diversion dam on the Kiamichi River for filling the reservoirs; (8) a reservoir, on the Kiamichi River, with a surface area of 50 acres and an 250 acre-foot storage capacity; (9) a 9,000-foot-long pipeline from the diversion dam to the lower reservoir and (10) a transmission line to an existing distribution line. The proposed project would have an average annual generation of 1,920,000 megawatt-hours (MWh), which would be sold to a local utility.

Applicant Contact: Mr. Fred Brown, 4265 Kellway Circle Addison, Texas 75001; phone (972) 239-0707.

FERC Contact: Michael Spencer, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov; call toll-free at (866) 208-3676; or, for TTY, contact (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13852-000) in the docket number field to access the document. For assistance, contact FERC Online Support.

Dated: April 27, 2011.
Kimberly D. Bose,
Secretary.

[FR Doc. 2011-10747 Filed 5-3-11; 8:45 am]

BILLING CODE 6717-01-P